DEPARTMENT OF TRANSPORTATION

Federal Aviation Administration

14 CFR Part 39

[Docket No. FAA-2010-0449; Directorate Identifier 2009-SW-38-AD; Amendment 39-16456; AD 2010-20-21]

RIN 2120-AA64

Airworthiness Directives; Agusta S.p.A. (Agusta) Model A109E Helicopters

AGENCY: Federal Aviation Administration (FAA), Department of Transportation (DOT).

ACTION: Final rule.

SUMMARY: This amendment adopts a new airworthiness directive (AD) for Agusta Model A109E helicopters. This AD results from a mandatory continuing airworthiness information (MCAI) AD issued by the European Aviation Safety Agency (EASA), which is the Technical Agent for the Member States of the European Community. The MCAI AD states that after a report of an electrical failure, an investigation revealed inadequate functioning of the 35 amperes (Amps) battery bus (BATT BUS) circuit breaker that was not within design requirements. The actions specified in this AD are intended to replace the 35 Amps circuit breaker with a 50 Amps circuit breaker and replace the wires with oversized ones to prevent an electrical failure, loss of electrical power, and subsequent loss of control of the helicopter.

DATES: This AD becomes effective on November 9, 2010.

The incorporation by reference of certain publications listed in the regulations is approved by the Director of the Federal Register as of November 9, 2010.

ADDRESSES: You may get the service information identified in this AD from Agusta, Via Giovanni Agusta, 520 21017 Cascina Costa di Samarate (VA), Italy, telephone 39 0331-229111, fax 39 0331-229605/222595, or at http://customersupport.agusta.com/technical_advice.php.

Examining the Docket: You may examine the docket that contains this AD, any comments, and other information on the Internet at http://www.regulations.gov or in person at the Docket Operations office between 9 a.m. and 5 p.m., Monday through Friday, except Federal holidays. The street address for the Docket Operations office (telephone (800) 647-5527) is stated in the ADDRESSES section of this AD. Comments will be available in the AD docket shortly after receipt.

FOR FURTHER INFORMATION CONTACT: DOT/FAA Southwest Region, Mark Wiley, ASW-111, Aviation Safety Engineer, Rotorcraft Directorate, Regulations and Policy Group, 2601 Meacham Blvd., Fort Worth, Texas 76137, telephone (817) 222-5114, fax (817) 222-5961.

SUPPLEMENTARY INFORMATION:

Discussion

We issued a Notice of Proposed Rulemaking (NPRM) to amend 14 CFR part 39 to include an AD that would apply to the Agusta Model A109E helicopters on April 7, 2010. That NPRM was published in the Federal Register on April 27, 2010 (75 FR 22043). That NPRM proposed to require modifying the fuselage electrical installation and the overhead panel electrical installation.

EASA, which is the Technical Agent for the Member States of the European Community, has issued EASA AD 2009-0137, dated June 23, 2009, to correct an unsafe condition for the Agusta Model A109E helicopters.

Following a report of an electrical failure, Agusta investigated the electrical power generation system and identified inadequate functioning of the 35 Amps BATT BUS circuit breaker. To prevent an electrical failure, the manufacturer has developed a BATT BUS circuit breaker modification kit for replacing the 35 Amps circuit breaker with a 50 Amps circuit breaker and replacing the wires with oversized ones. You may obtain further information by examining the MCAI AD and any related service information in the AD docket.

Comments

By publishing the NPRM, we gave the public an opportunity to participate in developing this AD. However, we received no comment on the NPRM or on our determination of the cost to the public. Therefore, based on our review and evaluation of the available data, we have determined that air safety and the public interest require adopting the AD as proposed.

Related Service Information

Agusta has issued Mandatory Bollettino Tecnico No. 109EP-98, dated June 22, 2009, that specifies modifying the BATT BUS circuit breaker installation. The service information specifies modifying the fuselage electrical installation, part number (P/N) 109-0741-49, and the overhead panel electrical installation, P/N 109-0741-55, with a BATT BUS circuit breaker modification kit, P/N 109-0824-73-101. The actions described in the MCAI AD are intended to correct the same unsafe condition as that identified in the service information.

FAA's Evaluation and Unsafe Condition Determination

This model helicopter has been approved by the aviation authority of Italy and is approved for operation in the United States Pursuant to our bilateral agreement with Italy, EASA, their Technical Agent, has notified us of the unsafe condition described in the MCAI AD. We are issuing this AD because we evaluated all information provided by EASA and determined the unsafe condition exists and is likely to exist or develop on other helicopters of the same type design.

Differences Between This AD and the MCAI AD

We refer to flight hours as hours time-in-service. Also, we do not refer to a calendar compliance date of December 31, 2009, because the effective date of this AD would be later than that date.

Costs of Compliance

We estimate that this AD will affect about 73 helicopters of U.S. registry. We also estimate that it will take about 5 work-hours per helicopter to modify the BAT BUS circuit breaker installation. The average labor rate is $85 per work-hour. Required parts will cost about $700 for the BAT BUS circuit breaker kit. Based on these figures, we estimate that the cost of this AD on U.S. operators is $82,125, assuming the entire fleet is modified.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD. See the AD docket to examine the economic evaluation.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new AD:

2020-20-21 Agusta S.p.A.: Amendment 39-16456; Docket No. FAA-2010-0449; Directorate Identifier 2009-SW-38-AD.

Effective Date

(a) This airworthiness directive (AD) becomes effective on November 9, 2010.

Other Affected ADs

(b) None.

Applicability

(c) This AD applies to Agusta Model A109E helicopters, all serial numbers up to and including serial number (S/N) 11758 (except S/N 11741, 11754, and 11757) modified with a circuit breaker modification kit, part number (P/N) 109-0812-04-101, -103, -107, or -109; certificated in any category.

Reason

(d) The mandatory continuing airworthiness information (MCAI) AD states after a report of an electrical failure, an investigation revealed inadequate functioning of the 35 amperes (Amps) battery bus (BATT BUS) circuit breaker.

Actions and Compliance

(e) Within 50 hours time-in-service, unless already done, modify the fuselage electrical installation, P/N 109-0741-49, and the overhead panel electrical installation, P/N 109-0741-55 with a BATT BUS circuit breaker modification kit, P/N 109-0824-73-101, as depicted in Figures 1 and 2 and by following the Compliance Instructions, paragraphs 2 through 20.7, of Agusta Mandatory Bollettino Tecnico No. 109EP-98, dated June 22, 2009.

Differences Between This AD and the MCAI AD

(f) We refer to flight hours as hours time-in-service. Also, we do not refer to a calendar compliance date of December 31, 2009, because the effective date of this AD would be later than that date.

Other Information

(g) Alternative Methods of Compliance (AMOCs): The Manager, Safety Management Group, ATTN: DOT/FAA Southwest Region, Mark Wiley, ASW-111, Aviation Safety Engineer, Rotorcraft Directorate, Regulations and Policy Group, 2601 Meacham Blvd., Fort Worth, Texas 76137, telephone (817) 222-5114, fax (817) 222-5961, has the authority to approve AMOCs for this AD, if requested, using the procedures found in 14 CFR 39.19.

Related Information

(h) EASA MCAI AD No. 2009-0137, dated June 23, 2009, contains related information.

Joint Aircraft System/Component (JASC) Code

(i) The JASC Code is 2460: Electrical Power Systems.

Material Incorporated by Reference

(j) You must use the specified portions of Agusta Mandatory Bollettino Tecnico No. 109EP-98, dated June 22, 2009, to do the actions required.

(1) The Director of the Federal Register approved the incorporation by reference of this service information under 5 U.S.C. 552(a) and 1 CFR part 51.

(2) For service information identified in this AD, contact Agusta, Via Giovanni Agusta, 520 21017 Cascina Costa di Samarate (VA), Italy, telephone 39 0331-229111, fax 39 0331-229605/222595, or at http://customersupport.agusta.com/technical_advice.php.

(3) You may review copies at the FAA, Office of the Regional Counsel, Southwest Region, 2601 Meacham Blvd., Fort Worth, Texas 76137; or at the National Archives and Records Administration (NARA). For information on the availability of this material at NARA, call (202) 741-6030, or go to: http://www.archives.gov/federal-register/cfr/ibr-locations.html.

Issued in Fort Worth, Texas, on September 22, 2010.
Mark R. Schilling,
Acting Manager, Rotorcraft Directorate, Aircraft Certification Service.

[FR Doc. 2010-24723 Filed 10-4-10; 8:45 am]

BILLING CODE 4910-13-P